DEPARTMENT OF TRANSPORTATION

Federal Aviation Administration

Notice of Intent To Prepare an Environmental Assessment and Conduct Scoping for Air Traffic Procedural Changes Associate With the Midwest Airspace Plan

AGENCY: Federal Aviation Administration, DOT.

ACTION: Notice of Intent to prepare an Environmental Assessment (EA) and conduct scoping meetings.

SUMMARY: The Federal Aviation Administration (FAA), Central Region, is issuing this notice to advise the public, pursuant to the National Environmental Policy Act of 1969, as amended, (NEPA) 42 U.S.C. 4332(2)(C) that the FAA intends to prepare an EA for the proposed Midwest Airspace Plan (MAP). While not required for an EA, the FAA is issuing this Notice of Intent to facilitate public involvement. This EA will assess the potential environmental impacts resulting from proposed modifications to air traffic routings in the metropolitan St. Louis, Missouri and surrounding areas. Airports in this area include Lambert-St. Louis International Airport, Spirit of St. Louis Airport, St. Louis Downtown Airport, St. Louis Regional Airport, Scott Air Force Base/Mid-America Airport, as well as other smaller general aviation use airports. All reasonable alternatives will be considered including a no action alternative/option.

FOR FURTHER INFORMATION CONTACT: Donna O'Neill, Airspace Branch, ACE-520, Air Traffic Division, Federal Aviation Administration, 901 E. Locust, Kansas City, MO 64106; telephone: (816) 329-2560.

SUPPLEMENTARY INFORMATION: The FAA issued its Final Environmental Impact Statement (FEIS) on W-1-W, a new staggered parallel runway at St. Louis-Lambert International Airport on December 19, 1997. The subsequent Record of Decision (ROD) on Improvements to Lambert-St. Louis International Airport, dated September 30, 1998 directed that action be taken to develop air traffic control and airspace management procedures to effect the safe and efficient movement of air traffic to and from the proposed new runway, including the development of a system for the routing of arriving and departing traffic and the design, establishment, and publication of standardized flight operating procedures including instrument approach procedures and standard instrument departure procedures.

The FAA's Midwest Airspace Plan examines alternative ways to modify air traffic routes and procedures to enhance safety and improve operational efficiency in the St. Louis airspace environment. The Midwest Airspace Plan encompasses a geographic area of approximately 75 miles around the Lambert-St. Louis International Airport. Airports in the study area include: Lambert-St. Louis International Airport, Spirit of St. Louis Airport, St. Louis Downtown Airport, St. Louis Regional Airport, Scott Air Force Base/Mid-America Airport, as well as other smaller general aviation use airports.

The FAA will examine methods that will take advantage of new and emerging ATC technologies, improved performance characteristics of modern aircraft, as well as improvements in navigation capabilities. The proposal will address the merits of alternative airspace design scenarios that safely and efficiently use regional airspace and utilize the additional runway being constructed at the Lambert-St. Louis International Airport.

As part of the airspace redesign effort, the FAA will conduct detailed analyses, which will be used to evaluate the potential environmental impacts in the study area. During scoping, and upon publication of a draft EA and a final EA, the FAA will be contacting and coordinating with federal, state, and local agencies, as well as the public, to obtain comments and suggestions regarding the EA for the proposed project. The EA will assess impacts and reasonable alternatives including a no action alternative, pursuant to NEPA; FAA Order 1050.1, Policies and Procedures for Assessing Environmental Impacts; DOT Order 5610.1, Procedures for Considering Environmental Impacts; and the President's Council on Environmental Quality (CEQ) Regulations implementing the provisions of NEPA, 40 CFR Parts 1500-1508, and other appropriate Agency guidance.

Public Scoping Process: While not required for an EA, the FAA will use the scoping process as outlined in the Council on Environmental Quality (CEQ) Regulations and guidelines to facilitate public involvement. Concerned individuals and agencies are invited to express their views either in writing or by providing oral comments at a scoping meeting. The purpose of the scoping process is: (1) To provide a description of the proposed action, (2) to provide an early and open process to determine the scope of issues to be addressed and to identify potentially significant issues or impacts related to the proposed action that should be analyzed in the EA, (3) to identify other coordination and any permit requirements associated with the proposed action, (4) to identify and eliminate from detailed study those issues that are not significant or those that have been adequately addressed during a prior environmental review process.

The FAA has scheduled four public scoping meetings. Each meeting will be held from 7 p.m. to 9 p.m. at sites listed below. Each of the meetings will begin with an overview of the project (7 p.m.-7:15 p.m.), followed by an informal open house period (7:15 p.m.-8:30 p.m.) and will conclude with a question and answer session (8:30 p.m.-9 p.m.). The open house portion of each public scoping meeting will include redesign displays and graphics and will provide an opportunity for one-on-one interaction between representatives of the FAA and the general public. Comments will be received via court recorder or written form throughout the duration of the meeting.

Scoping Meeting dates and locations are:

—June 11, 2003—Collinsville, IL Holiday Inn

—June 17, 2003—Kirkwood, MO Holiday Inn

—June 18, 2003—St. Peters, MO City Hall

—June 19, 2003—Alton, IL Holiday Inn

In meeting with NEPA coordination requirements, the FAA has scheduled one meeting that will be dedicated primarily to federal, state and local agency staff, and Native American governments. This meeting is scheduled on June 11 from 1 to 3 p.m. at the Sheraton St. Louis City Center Hotel, St. Louis, MO. Although this meeting will be held primarily for the benefit of federal, tribal, state and local agency staff, it will also be open to the public.

The scoping period begins with this announcement. To ensure that all issues are identified, the FAA is requesting comments and suggestions on the project scope from all interested federal, state and local agencies and other interested parties. In furtherance of this effort, the FAA has established an Internet Web site that can be accessed at: http://www.faa.gov/ats/central/enviro/map.html. Additional information about the Midwest Airspace Plan, including the scoping meeting schedule and meeting locations can be found at this internet site. Additionally, the FAA will be maintaining the following telephone number for general information: 816-329-2560.

Dates: The FAA will accept formal scoping comments through July 18, 2003. Written comments should be directed to the following address: Federal Aviation Administration, 901 E. Locust, Attn: ACE-520-MAP, Kansas City, MO 64106. Comments will also be accepted electronically via http://www.faa.gov/ats/nar/central/enviro/map.html.

Issued in Kansas City, Missouri on May 6, 2003.
Paul J. Sheridan,
Acting Manager, Air Traffic Division, Central Region.

[FR Doc. 03-12819 Filed 5-21-03; 8:45 am]

BILLING CODE 4910-13-M